NATIONAL SCIENCE FOUNDATION

Sunshine Act Meeting

SUMMARY: The National Science Board's Committee on National Science and Engineering Policy (SEP), pursuant to NSF regulations, the National Science Foundation Act, as amended, and the Government in the Sunshine Act, hereby gives notice of the scheduling of a teleconference for the transaction of National Science Board business, as follows:

DATES: Wednesday, July 1, 2020 at 4-5:30 p.m. EDT.

PLACE: This meeting will be held by videoconference through the National Science Foundation. An audio link will be available for the public. Contact the Board Office 24 hours before the teleconference to request the public audio link at nationalsciencebrd@nsf.gov.

STATUS: Open.

MATTERS TO BE CONSIDERED: Chair's opening remarks; conduct an orientation of Science & Engineering Indicators in preparation for the 2022 cycle.

CONTACT PERSON FOR MORE INFORMATION: Point of contact for this meeting is: Reba Bandyopadhyay (rbandyop@nsf.gov), 703/292-7000. Members of the public must contact the Board Office to request the public audio link by sending an email to nationalsciencebrd@nsf.gov at least 24 hours prior to the teleconference.

Meeting information and updates (time, place, subject matter or status of meeting) may be found at http://www.nsf.gov/nsb/meetings/notices.jsp#sunshine. Please refer to the National Science Board website www.nsf.gov/nsb for additional information.

Chris Blair,
Executive Assistant to the National Science Board Office.

[FR Doc. 2020-13936 Filed 6-24-20; 4:15 pm]

BILLING CODE 7555-01-P